Title 3—

The President

Proclamation 8484 of March 15, 2010

National Poison Prevention Week, 2010

By the President of the United States of America

A Proclamation

Since 1962, during National Poison Prevention Week we alert American families about the dangers of accidental poisonings and provide information on safety measures that can prevent senseless injuries and deaths. With nearly two million poison exposures reported each year, we must take every precaution to guard against these preventable tragedies.

Sadly, more than half of all reported poisonings involve children under the age of six, and the vast majority take place in the home. Parents should keep household chemicals and medicines in child-proof containers, beyond the reach of their children. Thanks to safety regulations and awareness campaigns like National Poison Prevention Week, childhood death rates from unintentional poisonings have fallen considerably. However, adult death rates have steadily risen in recent years.

We must each remember to read labels thoroughly before taking medications, to keep medicines in their original packaging, and to dispose of them properly. Consulting a physician before combining prescription drugs or using them with alcohol also reduces our risks.

In the event of an accidental poisoning, crucial information and immediate action can save lives. Individuals can call the toll-free national poison control hotline at 1-800-222-1222 to be connected to one of dozens of local poison control centers, which are open 24 hours every day. These centers provide emergency assistance, offer guidance on poison prevention, and answer questions concerning potential exposure.

To encourage Americans to learn more about the dangers of accidental poisonings and to take appropriate preventive measures, the Congress, by joint resolution approved September 26, 1961, as amended (75 Stat. 681), has authorized and requested the President to issue a proclamation designating the third week of March each year as “National Poison Prevention Week.”

NOW, THEREFORE, I, BARACK OBAMA, President of the United States of America, do hereby proclaim the third week of March of each year as National Poison Prevention Week. I call upon all Americans to observe this week by taking actions to protect their families from hazardous household materials and from the misuse of prescription medications.

IN WITNESS WHEREOF, I have hereunto set my hand this fifteenth day of March, in the year of our Lord two thousand ten, and of the Independence of the United States of America the two hundred and thirty-fourth.

[FR Doc. 2010-6222

Filed 3-18-10; 8:45 am]

Bill code 3195-W0-P